DEPARTMENT OF TRANSPORTATION

Federal Aviation Administration

14 CFR Part 39

[Docket No. FAA-2009-0057; Directorate Identifier 85-ANE-25-AD]

RIN 2120-AA64

Airworthiness Directives; Rolls-Royce plc (RR) RB211-535E4 Series Turbofan Engines

AGENCY: Federal Aviation Administration (FAA), Department of Transportation (DOT).

ACTION: Notice of proposed rulemaking (NPRM).

SUMMARY: The FAA proposes to supersede an existing airworthiness directive (AD) for Rolls-Royce (RR) RB211-535E4 series turbofan engines. That AD currently requires initial and repetitive inspections of the outer combustion case for cracks and possible removal. This proposed AD would require the same inspections, but would require using RR Mandatory Service Bulletin (MSB) RB.211-72-7775, Revision 3, dated April 9, 1999. This proposed AD results from RR issuing a revision to the MSB. We are proposing this AD to prevent an uncontained outer combustion case burst, which could result in damage to the airplane.

DATES: We must receive any comments on this proposed AD by April 13, 2009.

ADDRESSES: Use one of the following addresses to comment on this proposed AD.

• Federal eRulemaking Portal: Go to http://www.regulations.gov and follow the instructions for sending your comments electronically.

• Mail: Docket Management Facility, U.S. Department of Transportation, 1200 New Jersey Avenue, SE., West Building Ground Floor, Room W12-140, Washington, DC 20590-0001.

• Hand Delivery: Deliver to Mail address above between 9 a.m. and 5 p.m., Monday through Friday, except Federal holidays.

• Fax: (202) 493-2251.

Contact Rolls-Royce plc, P.O. Box 31, Derby, DE24 8BJ, United Kingdom; telephone: 44 (0) 1332-242424; fax: 44 (0) 1332-249936, for the service information identified in this proposed AD.

FOR FURTHER INFORMATION CONTACT: Ian Dargin, Aerospace Engineer, Engine Certification Office, FAA, Engine & Propeller Directorate, 12 New England Executive Park, Burlington, MA 01803; e-mail: ian.dargin@faa.gov; telephone (781) 238-7178; fax (781) 238-7199.

SUPPLEMENTARY INFORMATION:

Comments Invited

We invite you to send any written relevant data, views, or arguments regarding this proposal. Send your comments to an address listed under ADDRESSES. Include “Docket No. FAA-2009-0057; Directorate Identifier 85-ANE-25-AD” in the subject line of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact with FAA personnel concerning this proposed AD. Using the search function of the Web site, anyone can find and read the comments in any of our dockets, including, if provided, the name of the individual who sent the comment (or signed the comment on behalf of an association, business, labor union, etc.). You may review the DOT's complete Privacy Act Statement in the Federal Register published on April 11, 2000 (65 FR 19477-78).

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is the same as the Mail address provided in the ADDRESSES section. Comments will be available in the AD docket shortly after receipt.

Discussion

On March 24, 1986, the FAA issued AD 86-07-01, Amendment 39-5273 (51 FR 12511, April 11, 1986). That AD requires initial and repetitive inspections of the combustor case welds using RR MSB RB.211-72-7775, dated June 28, 1985. The Civil Aviation Authority (CAA), which is the airworthiness authority for the United Kingdom, notified us that an unsafe condition may exist on RR RB211-535E4 series turbofan engines. The CAA advises that RR has issued MSB RB.211-72-7775, Revision 3, dated April 9, 1999 to add the option of using an ECI to inspect the outer combustion case for cracks. That condition, if not corrected, could result in an uncontained outer combustion case burst, which could result in damage to the airplane.

Actions Since AD 86-07-01 Was Issued

Since that AD was issued, RR has issued MSB RB.211-72-7775, Revision 1, dated January 24, 1992; RB.211-72-7775, Revision 2, dated February 27, 1998; and RB.211-72-7775, Revision 3, dated April 9, 1999. MSB RB.211-72-7775, Revision 3, dated April 9, 1999 allows using an eddy current inspection (ECI) instead of the fluorescent penetrant inspection required by MSB RB.211-72-7775, dated June 28, 1985; RB.211-72-7775, Revision 1, dated January 24, 1992; and RB.211-72-7775, Revision 2, dated February 27, 1998. Also, we no longer consider using red dye penetrant, as specified in MSB RB.211-72-7775, dated June 28, 1985, an acceptable inspection method.

Special Flight Permits Paragraph Removed

The current AD, AD 86-07-01, contains a paragraph pertaining to special flight permits. Even though this NPRM does not contain a similar paragraph, we have made no changes with regard to the use of special flight permits to operate the airplane to a repair facility to do the work required by this AD. In July 2002, we published a new Part 39 that contains a general authority regarding special flight permits and airworthiness directives; see Docket No. FAA-2004-8460, Amendment 39-9474 (69 FR 47998, July 22, 2002). Thus, when we now supersede ADs, we will not include a specific paragraph on special flight permits unless we want to limit the use of that general authority granted in section 39.23.

Relevant Service Information

We have reviewed and approved the technical contents of RR Mandatory Service Bulletin (MSB) RB.211-72-7775, Revision 3, dated April 9, 1999, that describes procedures for inspecting the outer combustion case for cracks. The CAA classified this service bulletin as mandatory and issued AD CAA 008-07-85 in order to ensure the airworthiness of these RR engines in the United Kingdom.

FAA's Determination and Requirements of the Proposed AD

We have evaluated all pertinent information and identified an unsafe condition that is likely to exist or develop on other products of this same type design. For that reason, we are proposing this AD, which would require initial and repetitive ECI of the outer combustion case, and if necessary, replacing the case. The proposed AD would require that you do these actions using the service information described previously.

Costs of Compliance

We estimate that this proposed AD would affect 300 engines installed on airplanes of U.S. registry. We also estimate that it would take about 1 work-hour per engine to perform the proposed actions, and that the average labor rate is $80 per work-hour. No parts are required. Based on these figures, we estimate the total cost of the proposed AD to U.S. operators to be $24,000.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed AD:

1. Is not a “significant regulatory action” under Executive Order 12866;

2. Is not a “significant rule” under the DOT Regulatory Policies and Procedures (44 FR 11034, February 26, 1979); and

3. Would not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Incorporation by reference, Safety.

The Proposed Amendment

Under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-5273 (51 FR 12511, April 11, 1986) and by adding a new airworthiness directive to read as follows:

Rolls-Royce plc (RR) (Formerly Rolls-Royce Limited): Docket No. FAA-2009-0057; Directorate Identifier 85-ANE-25-AD.

Comments Due Date

(a) The Federal Aviation Administration (FAA) must receive comments on this airworthiness directive (AD) action by April 13, 2009.

Affected ADs

(b) This AD supersedes AD 86-07-01, Amendment 39-5273.

Applicability

(c) This AD applies to RR RB211-534E4-37, RR RB211-534E4-37, RR RB211-534E4-37, RR RB211-534E4-37 turbofan engines that don't incorporate RR Service Bulletin (SB) RB.211-72-8045. These engines are installed on, but not limited to, Boeing 757 and Tupolev Tu204 airplanes.

Unsafe Condition

(d) This AD results from RR issuing revisions to Mandatory Service Bulletin (MSB) RB.211-72-7775. We are issuing this AD to prevent an uncontained outer combustion case burst, which could result in damage to the airplane.

Compliance

(e) You are responsible for having the actions required by this AD performed within the compliance times specified unless the actions have already been done.

Initial Inspection

(f) Perform an initial inspection of the outer combustion casing. Use the Accomplishment Instructions 3.A. of RR MSB RB.211-72-7775, Revision 3, dated April 9, 1999 and the following compliance schedules:

(1) For cases with 1,500 or fewer cycles-since-new (CSN) on the effective date of this AD, inspect before accumulating 1,500 CSN.

(2) For cases with more than 1,500 CSN on the effective date of this AD, inspect within 50 cycles-in-service (CIS) after the effective date of this AD.

(3) If you detect any cracks of 1.5 inches or more, replace the case before further flight.

Repetitive Inspections

(g) Thereafter, inspect cases at the following intervals. Use the Accomplishment Instructions 3.A. of RR MSB RB.211-72-7775, Revision 3, dated April 9, 1999.

(1) Inspect within 500 cycles-since-last inspection (CSLI) if you detected no cracks during the last inspection.

(2) Inspect within 100 CSLI if you detected cracks less than or equal to 0.5 inch in length during the last inspection.

(3) Inspect within 50 CSLI if you detected cracks greater than 0.5 inch but less than 1.5 inches in length.

Credit for Previous Inspections

(h) Cases inspected before the effective date of this AD using RB.211-72-7775, Revision 2, dated February 27, 1998, or earlier issue, meet the requirements of this AD for the initial or repetitive inspections specified in paragraphs (f) through (f)(3) and (g) through (g)(3) of this AD.

Alternative Methods of Compliance

(i) The Manager, Engine Certification Office, FAA, has the authority to approve alternative methods of compliance for this AD if requested using the procedures found in 14 CFR 39.19.

Related Information

(j) Civil Aviation Authority airworthiness directive 008-07-85, dated June 19, 1985, also addresses the subject of this AD.

(k) Rolls-Royce plc MSB RB.211-72-7775, Revision 3, dated April 9, 1999, or earlier issue, contains information related to the subject of this AD. Contact Rolls-Royce plc, P.O. Box 31, Derby, DE24 8BJ, United Kingdom; telephone: 44 (0) 1332-242424; fax: 44 (0) 1332-249936, for a copy of this service information

(l) Contact Ian Dargin, Aerospace Engineer, Engine Certification Office, FAA, Engine & Propeller Directorate, 12 New England Executive Park, Burlington, MA 01803; e-mail: ian.dargin@faa.gov; telephone (781) 238-7178; fax (781) 238-7199, for more information about this AD.

Issued in Burlington, Massachusetts, on January 23, 2009.
Peter A. White,
Assistant Manager, Engine and Propeller Directorate, Aircraft Certification Service.

[FR Doc. E9-3018 Filed 2-11-09; 8:45 am]

BILLING CODE 4910-13-P